DEPARTMENT OF HEALTH AND HUMAN SERVICES

Indian Health Service

60-Day Proposed Information Collection: Indian Health Service (IHS) Sharing What Works—Best Practice, Promising Practice, and Local Effort (BPPPLE) Form; Request For Public Comment

AGENCY: Indian Health Service, HHS.

ACTION: Notice.

SUMMARY: In compliance with Section 3506(c)(2)(A) of the Paperwork Reduction Act of 1995 which requires 60 days for public comment on proposed information collection projects, the Indian Health Service (IHS) is publishing for comment a summary of a proposed information collection to be submitted to the Office of Management and Budget (OMB) for review.

Proposed Collection: Title: 0917- 0034, “Indian Health Service (IHS) Sharing What Works—Best Practice, Promising Practice, and Local Effort (BPPPLE) Form.” Type of Information Collection Request: Extension without revision of the currently approved information collection, 0917-0034, “IHS Sharing What Works—BPPPLE Form,” which was previously approved under the title “Director's 3 Initiative Best Practice, Promising Practice, and Local Efforts Form.” Although the name of the form has changed, the contents of the form remain the same. Forms: IHS Sharing What Works—BPPPLE Form (OMB Form No. 0917-0034). Need and Use of Information Collection: The IHS goal is to raise the health status of the American Indian and Alaska Native (AI/AN) people to the highest possible level by providing comprehensive health care and preventive health services. To support the IHS mission and to provide the product/service to IHS, Tribal, and Urban (I/T/U) programs, the Office of Preventive and Clinical Services' (OCPS) program divisions (i.e., Behavioral Health (BH), Health Promotion/Disease Prevention (HP/DP), Nursing, and Dental) have developed a centralized program database of Best/Promising Practices and Local Efforts (BPPPLE) and resources. The purpose of this collection is to develop a database of BPPPLE and resources to be published on the IHS.gov Web site which will be a resource for program evaluation and for modeling examples of various health care projects occurring in AI/AN communities.

All information submitted is on a voluntary basis; no legal requirement exists for collection of this information. The information collected will enable the Director's Three Initiative program to: (a) Identify evidence based approaches to prevention programs among the I/T/Us when no system is currently in place, and (b) Allow the program managers to review BPPPLE occurring among the I/T/Us when considering program planning for their communities.

Affected Public: Individuals. Type of Respondents: I/T/U programs' staff. The table below provides: Types of data collection instruments, Number of respondents, Responses per respondent, Average burden hour per response, and Total annual burden hour(s).

Estimated Burden Hours
Data collection instrument(s) | Number of respondents | Responses per respondent | Average burden hour per response | Total annual burden hours
IHS Sharing What Works—BPPPLE Form (OMB Form No. 0917-0034) | 100 | 1 | 20/60 | 33.3
Total | 100 |  |  | 33.3

There are no Capital Costs, Operating Costs, and/or Maintenance Costs to report.

Request for Comments: Your written comments and/or suggestions are invited on one or more of the following points: (a) Whether the information collection activity is necessary to carry out an agency function; (b) whether the agency processes the information collected in a useful and timely fashion; (c) the accuracy of the public burden estimate (the estimated amount of time needed for individual respondents to provide the requested information); (d) whether the methodology and assumptions used to determine the estimates are logical; (e) ways to enhance the quality, utility, and clarity of the information being collected; and (f) ways to minimize the public burden through the use of automated, electronic, mechanical, or other technological collection techniques or other forms of information technology.

Send Comments and Requests for Further Information: Send your written comments, requests for more information on the proposed collection, or requests to obtain a copy of the data collection instrument(s) and instructions to: Tamara Clay, IHS Reports Clearance Officer, 801 Thompson Avenue, TMP, Suite 450, Rockville, MD 20852-1627; call non-toll free (301) 443-4750; send via facsimile to (301) 443-9879; or send your email requests, comments, and return address to: tamara.clay@ihs.gov.

Comment Due Date: Your comments regarding this information collection are best assured of having full effect if received within 60 days of the date of this publication.

Dated: August 24, 2012.
Yvette Roubideaux,
Director, Indian Health Service.

[FR Doc. 2012-21380 Filed 8-29-12; 8:45 a.m.]

BILLING CODE 4165-16-P